DEPARTMENT OF DEFENSE

Office of the Secretary

[Docket ID: DoD-2024-OS-0141]

Proposed Collection; Comment Request

AGENCY: The Under Secretary of Defense for Acquisition and Sustainment (USD(A&S)), Department of Defense (DoD).

ACTION: 60-Day information collection notice.

SUMMARY: In compliance with the Paperwork Reduction Act of 1995, the Deputy Assistant Secretary of Defense for Housing announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 28, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to Office of the Deputy Assistant Secretary of Defense (Housing), 3400 Defense Pentagon, Room 5C756, Washington, DC 20301-3400; ATTN: Ms. Megan Purkey, or call 703-614-0867.

SUPPLEMENTARY INFORMATION:

Title; Associated Form; and OMB Number: Application for Homeowners Assistance; DD Form 1607; OMB Control Number 0704-0463.

Needs and Uses: In accordance with section 3374 of United States Code Title 42; the American Recovery and Reinvestment Act of 2009 (Pub. L. 111-5); 32 CFR part 239; and DoD Directive 4165.50E, “Homeowners Assistance Program (HAP),” the DoD provides funds to financially compensate eligible members of the Armed Forces who incur a wound, injury, or illness in the line of duty during a deployment in support of the Armed Forces on or after September 11, 2001; wounded DoD and Coast Guard civilian homeowners reassigned in furtherance of medical treatment or rehabilitation or due to medical retirement in connection with a disability incurred in the performance of his or her duties during a forward deployment occurring on or after September 11, 2001 in support of the Armed Forces; and surviving spouses of fallen warriors who move within two years of the death of such employee or member. Additionally, during times of Base Realignment and Closure, the HAP program can be authorized to assist civilian and active-duty homeowners who are impacted by the closure or realignment of their job duties. Priority access to the funds goes to surviving spouses of those killed during deployment and those who were wounded, injured, or ill during deployment on or after September 11, 2001. HAP applicants use DD Form 1607, “Application for Homeowner's Assistance Program (HAP),” to apply for HAP benefits.

Affected Public: Individuals or households.

Annual Burden Hours: 15.

Number of Respondents: 15.

Responses per Respondent: 1.

Annual Responses: 15.

Average Burden per Response: 1 hour.

Frequency: On occasion.

Applicants most often complete the form with the assistance of a representative of the Family Housing Office. After it has been filled out, the form is then emailed, faxed, hand-carried, or—in rare cases—mailed to the district HAP office for processing. An action officer in the district HAP office processes the form to ensure all the necessary information has been provided. If necessary, the applicant is provided with the appropriate instructions for the necessary supplemental information. When the case file is deemed complete by the action officer, it is provided to a counselor for approval or rejection recommendation based on program criteria related to economic impact, service requirements, the applicant's homeowner status, the applicant's primary residence status, and other assistance received by the homeowner. A formal response regarding eligibility or appeal status is provided to the applicant via mail.

Dated: December 18, 2024.
Stephanie J. Bost,
Alternate OSD Federal Register Liaison Officer, Department of Defense.

[FR Doc. 2024-30891 Filed 12-27-24; 8:45 am]

BILLING CODE 6001-FR-P